DEPARTMENT OF ENERGY

Federal Energy Regulatory Commission

[Docket No. RP00-557-000]

Texas Eastern Transmission Corporation; Notice of Proposed Changes in FERC Gas Tariff

September 26, 2000.

Take notice that on September 22, 2000, Texas Eastern Transmission Corporation (Texas Eastern) tendered for filing as part of its FERC Gas Tariff, Sixth Revised Volume No. 1, the following tariff sheets, to be effective on October 15, 2000.

Sixth Revised Volume No. 1

First Revised Sheet No. 926

First Revised Sheet No. 930

Texas Eastern states that the purpose of this filing is to modify the LINKr System Agreement contained in Sheet Nos. 926 through 930 of the Tariff to add East Tennessee Natural Gas Company to the list of companies utilizing this agreement, as East Tennessee is now an affiliate of Texas Eastern, and to remove Panhandle Eastern Pipe Line Company (Panhandle) and Trunkline Gas Company (Trunkline) from that list, as Panhandle and Trunkline are no longer affiliates of Texas Eastern.

Texas Eastern states that copies of its filing have been mailed to all affected customers and interested state commissions.

Any person desiring to be heard or to protest said filing should file a motion to intervene or a protest with the Federal Energy Regulatory Commission, 888 First Street, N.E., Washington, D.C. 20426, in accordance with Sections 385.214 of 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm. (call 202-208-2222 for assistance).

David P. Boergers,
Secretary.

[FR Doc. 00-25119 Filed 9-29-00; 8:45 am]

BILLING CODE 6717-01-M